COMMISSION ON CIVIL RIGHTS

Agenda and Notice of Public Meeting of the Utah Advisory Committee

Notice is hereby given, pursuant to the provisions of the rules and regulations of the U.S. Commission on Civil Rights (Commission), and the Federal Advisory Committee Act (FACA), that a planning meeting of the Utah Advisory Committee to the Commission will convene by conference call at 10 a.m. on Thursday, May 6, 2010. The purpose of this meeting is to provide a brief overview of recent Commission and regional activities, discuss civil rights issues in the state, hear from a subcommittee on the Utah Anti-Discrimination Division's state audit report, and plan future activities and projects.

This meeting is available to the public through the following toll-free call-in and conference ID numbers: 1-866-364-8798; conference ID 70344123. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID.

To ensure that the Commission secures an appropriate number of lines for the public, persons are asked to register by contacting Evelyn Bohor of the Rocky Mountain Regional Office and TTY/TDD (303) 866-1049 by noon on May 3, 2010.

Members of the public are entitled to submit written comments. The comments must be received in the regional office by June 7, 2010. The address is: U.S. Commission on Civil Rights, Rocky Mountain Regional Office, 1961 Stout Street, Suite 240, Denver, CO 80294. Comments may be e-mailed to ebohor@usccr.gov. Records generated by this meeting may be inspected and reproduced at the Rocky Mountain Regional Office, as they become available, both before and after the meeting. Persons interested in the work of this advisory committee are advised to go to the Commission's Web site, http://www.usccr.gov, or to contact the Rocky Mountain Regional Office at the above e-mail or street address.

The meeting will be conducted pursuant to the provisions of the rules and regulations of the Commission and FACA.

Dated in Washington, DC, 19 April 2010.
Peter Minarik,
Acting Chief, Regional Programs Coordination Unit.

[FR Doc. 2010-9383 Filed 4-22-10; 8:45 am]

BILLING CODE 6335-01-P